DEPARTMENT OF ENERGY

Federal Energy Regulatory Commission

[Docket No. CP05-130-000]

Dominion Cove Point LNG, L.P.; Notice of Technical Conference

July 1, 2005.

On Wednesday, July 27, 2005, at 8:30 a.m. (EDT), staff of the Office of Energy Projects will convene a cryogenic design and technical conference regarding the proposed Cove Point Expansion Project. The cryogenic conference will be held in the Holiday Inn Select, located at 155 Holiday Drive, Solomons, MD 20688. For hotel details call (410) 326-6311.

In view of the nature of critical energy infrastructure information and security issues to be explored, the cryogenic conference will not be open to the public. Attendance at this conference will be limited to existing parties to the proceeding (anyone who has specifically requested to intervene as a party) and to representatives of interested Federal, State, and local agencies. Any person planning to attend the July 27th cryogenic conference must register by close of business on Monday, July 25, 2005. Registrations may be submitted either online at http://www.ferc.gov/whats-new/registration/cryo-conf-form.asp or by faxing a copy of the form (found at the referenced online link) to (202) 208-0353. All attendees must sign a non-disclosure statement prior to entering the conference. Upon arrival at the hotel, check the reader board in the hotel lobby for venue. For additional information regarding the cryogenic conference, please contact Ghanshyam Patel at (202) 502-6431.

Magalie R. Salas,
Secretary.

[FR Doc. E5-3605 Filed 7-7-05; 8:45 am]

BILLING CODE 6717-01-P